OFFICE OF THE UNITED STATES TRADE REPRESENTATIVE

Request for Public Comment on the Negotiations for Compensatory Adjustments to U.S. Schedule of Services Commitments Under WTO General Agreement on Trade in Services (GATS) in Response to Notice of the United States of Intent To Modify Its Schedule Under Article XXI of the GATS

AGENCY: Office of the United States Trade Representative.

ACTION: Request for comment.

SUMMARY: The Trade Policy Staff Committee (TPSC) gives notice that the Office of the United States Trade Representative (USTR) requests written submissions from the public concerning the negotiations for compensatory adjustments to U.S. Schedule of Services Commitments under WTO General Agreement on Trade in Services (GATS) in response to notice of the United States of intent to modify its schedule under Article XXI of the GATS.

On May 4, 2007, the United States filed with the WTO a notification to the Council for Trade in Services (CTS) pursuant to Article XXI:1(b) of the GATS stating the intention of the United States to modify its commitment for “other recreational services” to explicitly exclude gambling and betting services. In accordance with the procedural schedule set out in the WTO “Procedures for the Implementation of Article XXI of the GATS: Modification of Schedules” (WTO Document S/L/80) (“Article XXI Procedures”), on June 22 the United States received notice from eight WTO Members that they consider that their benefits under the GATS may be affected by the proposed modification. Consequently, consistent with Article XXI:2(a) of the GATS, the United States has entered into negotiations with these WTO Members with a view to reaching agreement on any necessary compensatory adjustment. The aim of such negotiations and agreement shall be to maintain a general level of mutually advantageous commitments not less favorable to trade than that provided for in the U.S. schedules of specific commitments prior to such negotiations.

DATES: Submissions must be received on or before noon, 30 days after publication.

ADDRESSES: Submissions by Electronic Mail: FR0714@ustr.eop.gov. Submissions by facsimile: Gloria Blue, Executive Secretary, Trade Policy Staff Committee (TPSC), Office of the USTR, at (202)395-6143.

FOR FURTHER INFORMATION CONTACT: For procedural questions concerning public comments, contact Gloria Blue, Executive Secretary, TPSC, Office of the USTR, 1724 F Street, NW., Washington, DC 20508, telephone (202)395-3475. Substantive questions concerning this review should be addressed to Thomas Fine, Director of Services Trade Negotiations, Office of the U.S. Trade Representative, telephone (202) 395-6875.

SUPPLEMENTARY INFORMATION:

Background Information

In the course of a WTO dispute resolution proceeding originally filed by Antigua and Barbuda in 2003, the United States' GATS schedule was found to have included a market access commitment covering Internet gambling based outside of the United States. This finding was a result of imprecision in the drafting of the 1994 U.S. GATS schedule, combined with the application of formal treaty interpretation rules under which a country's intent is not determinative. In fact, as even the WTO panel and Appellate Body recognized, gambling or betting services are generally prohibited or highly restricted in the United States for reasons of public morality, law enforcement and protection of minors and other vulnerable groups, and the United States never intended to make a GATS commitment covering gambling.

The dispute has now completed the compliance phase, and the report of the compliance panel was adopted by the WTO Dispute Settlement Body (DSB) on May 22, 2007.

In light of these developments in the WTO dispute, the United States has decided to make use of the established WTO procedures to correct its schedule in order to reflect the original U.S. intent—that is, to exclude gambling from the scope of the U.S. commitments under the GATS. The GATS, Article XXI, provides that when a Member modifies its services schedule, other Members who allege they will be affected by this action may make a claim for a compensatory adjustment to other areas of the GATS schedule. Under the Article XXI procedures, WTO Members had until June 22, 2007 to make such claims.

Prior to the applicable deadline, the following eight WTO Members notified the United States that they consider that their benefits under the GATS may be affected by the proposed modification and thus that the United States should enter into negotiations with a view to reaching agreement on any necessary compensatory adjustment: Antigua and Barbuda, Australia, Canada, Costa Rica, the European Communities, India, Japan and Macao.

Consistent with these requests, the United States will begin consultations with these WTO Members. Under the Article XXI Procedures, the United States and those Members making claims have an initial period of three months to consult on any necessary compensatory adjustment. If these discussions are not successful in reaching a satisfactory conclusion for any claimant, that claimant may refer the issue to arbitration.

Requirements for Submissions

To ensure prompt and full consideration of responses, USTR strongly recommends that interested persons submit comments by electronic mail to the following e-mail address: FR0714@ustr.eop.gov. Persons making submissions by e-mail should use the following subject line: “Services Article XXI Negotiations.” Documents should be submitted in WordPerfect, MSWord, or text (.TXT) files. Supporting documentation submitted as spreadsheets is acceptable in Quattro Pro or Excel format. For any document containing business confidential information submitted electronically, the file name of the business confidential version should begin with the characters “BC-”, and the file name of the public version should begin with the character “P-”. The “P-” or “BC-” should be followed by the name of the submitted information. Persons who make submissions by e-mail should not provide separate cover letters; information that might appear in a cover letter should be included in the submission itself. To the extent possible, any attachments to the submission should be included in the same file as the submission itself, and not as separate files.

Written submissions will be placed in a file open to public inspection pursuant to 15 CFR 2003.5, except confidential business information exempt from public inspection in accordance with 15 CFR 2003.6 must be clearly marked “Business Confidential” at the top of each page, including any cover letter or cover page, and must be accompanied by a non-confidential summary of the confidential information. All public documents and non-confidential summaries will be available for public inspection in the USTR Reading Room in Room 3 of the Annex of the Office of the USTR, 1724 F Street, NW., Washington, DC 20508. An appointment to review the file may be made by calling (202) 395-6186. The USTR Reading Room is generally open to the public from 10 a.m.—12 noon and 1 p.m.—4 p.m., Monday through Friday. Appointments must be scheduled at least 48 hours in advance.

Carmen Suro-Bredie,
Chairperson, Trade Policy Staff Committee.

[FR Doc. E7-13734 Filed 7-13-07; 8:45 am]

BILLING CODE 3190-W7-P